DEPARTMENT OF COMMERCE

International Trade Administration

[A-583-848]

Certain Stilbenic Optical Brightening Agents From Taiwan: Rescission of Antidumping Duty Administrative Review; 2011-2013

AGENCY: Enforcement and Compliance, formerly Import Administration, International Trade Administration, Department of Commerce.

SUMMARY: The Department of Commerce (the Department) is rescinding its administrative review of the antidumping duty order on certain stilbenic optical brightening agents (OBAs) from Taiwan for the period November 3, 2011, through April 30, 2013.

DATES: Effective Date: December 3, 2013.

FOR FURTHER INFORMATION CONTACT: Hermes Pinilla or Minoo Hatten, AD/CVD Operations Office I, Enforcement and Compliance, International Trade Administration, U.S. Department of Commerce, 14th Street and Constitution Avenue NW., Washington, DC 20230; telephone: (202) 482-3477 and (202) 482-1690 respectively.

SUPPLEMENTARY INFORMATION:

Background

On May 1, 2013, we published a notice of opportunity to request an administrative review of the antidumping duty order on OBAs from Taiwan for the period of review November 3, 2011, through April 30, 2013.¹ On June 28, 2013, in response to a May 31, 2013, request for review from the petitioner, Clariant Corporation (Clariant), and in accordance with section 751(a) of the Tariff Act of 1930, as amended (the Act) and 19 CFR 351.221(c)(1)(i), we initiated an administrative review of the order on OBAs from Taiwan with respect to Teh Fong Min International Co., Ltd. (Teh Fong Min).²

¹ See Antidumping or Countervailing Duty Order, Finding, or Suspended Investigation; Opportunity To Request Administrative Review, 78 FR 25423 (May 1, 2013).

² See Initiation of Antidumping and Countervailing Duty Administrative Reviews and Request for Revocation in Part, 78 FR 38924 (June 28, 2013).

On September 25, 2013, Clariant withdrew its request for an administrative review of Teh Fong Min.³

³ See letter from Clariant to the Department, “Certain Stilbenic Optical Brightening Agents from Taiwan: Withdrawal of Petitioner's Request for Administrative Review” (September 25, 2013).

Rescission of Review

Pursuant to 19 CFR 351.213(d)(1), the Department will rescind an administrative review, “in whole or in part, if a party that requested a review withdraws the request within 90 days of the date of publication of notice of initiation of the requested review.” Clariant withdrew its request for review within the 90-day time limit. Further, because we rejected Teh Fong Min's June 3, 2013 request for the Department to conduct an administrative review, as untimely,⁴ and received no other requests for review of Teh Fong Min or with respect to other companies subject to the order, we are rescinding the administrative review of the order in full. This rescission is in accordance with 19 CFR 351.213(d)(1).

⁴ See letter from Teh Fong Min, “Certain Stilbenic Optical Brightening Agents (CSOBA)” (June 3, 2013); see also letter from the Department to Teh Fong Min (June 5, 2013).

Accordingly, the Department intends to issue appropriate assessment instructions to U.S. Customs and Border Protection 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act and 19 CFR 351.213(d)(4).

Dated: November 26, 2013.
Christian Marsh,
Deputy Assistant Secretary for Antidumping and Countervailing Duty Operations.

[FR Doc. 2013-28943 Filed 12-2-13; 8:45 am]

BILLING CODE 3510-DS-P